DEPARTMENT OF HEALTH AND HUMAN SERVICES

Health Care Financing Administration

Statement of Organization, Functions, and Delegations of Authority

Part F, of the Statement of Organization, Functions, and Delegations of Authority of the Department of Health and Human Services, Health Care Financing Administration (HCFA), 49 FR 34247, dated September 6, 1998, is amended to include the following delegation of authority from the Secretary to the Administrator, HCFA, for Title II of the Ticket to Work and Work Incentives Improvement Act of 1999.

• Section F.30., Delegations of Authority is amended by adding the following paragraph:

UU. The authorities vested in the Secretary by Title II, “Expanded Availability of Health Care Services,” under the Ticket to Work and Work Incentives Improvement Act of 1999, Pub. L. 106-170, as amended hereafter, and as they relate to the mission of HCFA.

This delegation shall be exercised under the Department's existing delegation of authority and policy on regulations. In addition, I hereby affirm and ratify any actions taken by the HCFA Administrator or other HCFA officials which, in effect, involved the exercise of this authority prior to the effective date of this delegation.

This delegation is effective September 25, 2000.

Dated: September 25, 2000.
Donna E. Shalala,
The Secretary.

[FR Doc. 00-25813 Filed 10-6-00; 8:45 am]

BILLING CODE 4120-03-M